DEPARTMENT OF ENERGY

Federal Energy Regulatory Commission

[Project No., 2305-059]

Sabine River Authority of Texas; Sabine River Authority, State of Louisiana: Notice of Application Accepted for Filing and Soliciting Comments, Motions To Intervene, and Protests

Take notice that the following hydroelectric application has been filed with the Commission and is available for public inspection:

a. Application Type: Non-Project Use of Project Lands.

b. Project No: 2305-059.

c. Date Filed: March 3, 2017 and supplemented on March 31, 2017.

d. Applicant: Sabine River Authority of Texas and Sabine River Authority, State of Louisiana.

e. Name of Project: Toledo Bend Project.

f. Location: The project is located on the Sabine River on the Texas-Louisiana border in Panola, Shelby, Sabine, and Newton Counties in Texas and DeSoto, Sabine, and Vernon Parishes in Louisiana.

g. Filed Pursuant to: Federal Power Act, 16 U.S.C. 791a-825r.

h. Applicant Contact: Charles R. Sensiba; (202) 298-1800, Sharon L. White; (202) 298-1800, Van Ness Feldman, LLP, 1050 Thomas Jefferson St. NW., Washington DC 20007.

Carl L. Chance; (318) 256-4112, Sabine River Authority, State of Louisiana, 15091 Texas Hwy, Many, LA 71449.

i. FERC Contact: Holly Frank, (202) 502-6833, Holly.Frank@ferc.gov.

j. Deadline for filing comments, motions to intervene, and protests is 30 days from the issuance of this notice by the Commission. All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2305-059.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Sabine River Authority of Texas and Sabine River Authority, State of Louisiana request Commission approval to grant M5 Midstream LLC a permit to use project lands and waters within the project boundary on the Sabine River for the construction of a water withdrawal intake to withdraw up to 6.3 million gallons of water per day from the Sabine River for the purpose of creating an impoundment outside the project boundary to provide a freshwater source for nearby natural gas development. The water withdrawal is anticipated to occur full-time for the first month to create the impoundment and intermittently as needed afterwards for refill purposes. To facilitate the withdrawal, the water intake facility, an access road easement, and a combined water pipeline and overhead powerline easement would be constructed within the project boundary.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 6, 2017.
Kimberly D. Bose,
Secretary.

[FR Doc. 2017-07546 Filed 4-13-17; 8:45 am]

BILLING CODE 6717-01-P